NUCLEAR REGULATORY COMMISSION

Sunshine Act Meeting

agency holding the meetings: Nuclear Regulatory Commission.

date: Weeks of October 24, 31, November 7, 14, 21, 28, 2005.

place: Commissioner's Conference Room, 11555 Rockville Pike, Rockville, Maryland.

status: Public and closed.

matters to be considered:

Week of October 24, 2005

Wednesday, October 26, 2005

1:20 p.m.

Affirmation Session (Public Meeting) (Tentative).

a. U.S. Army (Jefferson Proving Ground Site) (Materials License Amendment) (tentative).

b. Dominion Nuclear Connecticut, Inc. (Millstone Nuclear Power Station, Units 2 and 3), Docket Nos. 50-336-LR & 50-423-LR, LBP-05-16 (July 20, 2005) (tentative).

c. Amergen Energy Co. (Three Mile Island Nuclear Station, Unit 1), Docket No. 50-289-LT-2 (tenative).

d. Exelon Generation Company, LLC & PSEG Nuclear, LLC (Peach Bottom Atomic Power Station, Units 2 and 3, Docket Nos. 50-277-LT & 50-278-LT (tentative).

1:30 p.m.

Discussion of Security Issues (Closed—Ex. 1).

Thursday, October 27, 2005

10 a.m.

Discussion of Security Issues (Closed—Ex. 1).

Week of October 31, 2005—Tentative

Tuesday, November 1, 2005

9:30 a.m.

Briefing on Implementation of Davis-Besse Lessons Learned Task Force (DBLLTF) Recommendations (Public Meeting). (Contact: Brendan Moroney, (301) 415-3974).

This meeting will be Webcast live at the Web address— http://www.nrc.gov.

Week of November 7, 2005—Tentative

There are no meetings scheduled for the Week of November 7, 2005.

Week of November 14, 2005—Tentative

There are no meetings scheduled for the Week of November 14, 2005.

Week of November 21, 2005—Tentative

Monday, November 21, 2005

9:30 a.m.

Briefing on Status of New Reactor Issues, Part 1 (Public Meeting). (Contact: Laura Dudes, (301) 415-0146).

1:30 p.m.

Briefing on Status of New Reactor Issues, Part 2 (Public Meeting). (Contact: Laura Dudes, (301) 415-0146).

This meeting will be Webcast live at the Web address— http://www.nrc.gov.

Week of November 28, 2005—Tentative

Wednesday, November 30, 2005

9:30 a.m.

Briefing on EEO Program (Public Meeting). (Contact: Corenthis Kelley, (301) 415-7380).

This meeting will be Webcast live at the Web address— http://www.nrc.gov.

*The schedule for Commission meetings is subject to change on short notice. To verify the status of meetings call (recording)—(301) 415-1292. Contact person for more information. Michelle Schroll, (301) 415-1662.

Additional Information

By a vote of 5-0 on October 18, 2005, the Commission determined pursuant to U.S.C. 552b(e) and § 9.107(a) of the Commission's rules that “Affirmation of a. Louisiana Energy Services, L.P. (National Enrichment Facility), Intervenors' Petition for Review of LBP-05-13 (Decision on Environmental Contentions); b. Louisiana Energy Services, L.P. (National Enrichment Facility), Licensing Board's Referral of Memorandum and Order Rejecting Amended and Supplemental Contentions; and c. Private Fuel Storage (Independent Spent Fuel Storage Installations) Docket No. 72-22-ISFSI; Review of Board's September 15, 2005 order regarding safeguards redactions” be held October 19, 2005, and on less than one week's notice to the public.

The NRC Commission Meeting Schedule can be found on the Internet at: http://www.nrc.gov/what-we-do/policy-making/schedule.html.

The NRC provides reasonable accommodation to individuals with disabilities where appropriate. If you need a reasonable accommodation to participate in these public meetings, or need this meeting notice or the transcript or other information from the public meetings in another format (e.g., braille, large print), please notify the NRC's Disability Program Coordinator, August Spector, at (301) 415-7080, TDD: (301) 415-2100, or by e-mail at aks@nrc.gov. Determinations on requests for reasonable accommodation will be made on a case-by-case basis.

This notice is distributed by mail to several hundred subscribers; if you no longer wish to receive it, or would like to be added to the distribution, please contact the Office of the Secretary, Washington, DC 20555 (301) 415-1969. In addition, distribution of this meeting notice over the Internet system is available. If you are interested in receiving this Commission meeting schedule electronically, please send an electronic message to dkw@nrc.gov.

Dated: October 20, 2005.
R. Michelle Schroll,
Office of the Secretary.

[FR Doc. 05-21337 Filed 10-21-05; 9:54 am]

BILLING CODE 7590-01-M